DEPARTMENT OF HEALTH AND HUMAN SERVICES

Administration for Children and Families

Submission for OMB Review; Prevention Services Data Collection (OMB #0970-0529)

AGENCY: Children's Bureau, Administration for Children and Families, HHS.

ACTION: Request for public comment.

SUMMARY: The Administration for Children and Families (ACF), Children's Bureau is requesting a 3-year extension of the Prevention Services Data Collection (OMB #0970-0529, expiration 7/31/2022). There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing.

SUPPLEMENTARY INFORMATION: Description: Section 471(e)(4)(E) of the Social Security Act (the Act) (42 U.S.C. 671), as amended by Public Law 115-123, requires state and tribal child welfare agencies to collect and report to ACF information on children receiving prevention and family services and programs. Title IV-E Agencies must report the following on a bi-annual basis:

• The specific services or programs provided

• The total expenditures for each of the services or programs provided

• The duration of the services or programs provided, and

• If the child was identified in a prevention plan as a candidate for foster care:

○ The child's placement status at the beginning, and at the end, of the 12-month period that begins on the date the child was identified as a candidate for foster care in a prevention plan; and

○ Whether the child entered foster care during the initial 12-month period and during the subsequent 12-month period.

To date, approximately ¾ of the Title IV-E Agencies have chosen to provide these prevention services; however, it is believed that this number will continue to increase over time as states voluntarily opt-in to the program in order to utilize IV-E funding to provide prevention programs and services to children and families.

The data collected will continue to inform federal policy decisions, program management, and responses to Congressional and Departmental inquiries. Specifically, the data will provide information about the use and availability of prevention services to children to prevent the need for foster care placement. The data contains personally identifiable information (date of birth and race/ethnicity).

Respondents: Title IV-E Agencies.

Annual Burden Estimates
Instrument | Total number of respondents | Annual number of responses per respondent | Average burden hours per response | Annual burden hours
Prevention Services Data Collection | 55 | 2 | 31 | 3,410

Estimated Total Annual Burden Hours: 3,410.

Authority: Section 471(e)(4)(E) of the Act (42 U.S.C. 671), as amended by Public Law 115-123.

Mary B. Jones,
ACF/OPRE Certifying Officer.

[FR Doc. 2022-04939 Filed 3-8-22; 8:45 am]

BILLING CODE 4184-29-P